DEPARTMENT OF LABOR

Office of Workers' Compensation Programs

Agency Information Collection Activities; Comment Request; Coal Mine Operator Response to Schedule for the Submission of Additional Evidence and Operator Response to Notice of Claim

ACTION: Notice.

SUMMARY: The Department of Labor (DOL) is soliciting comments concerning a proposed extension for the authority to conduct the information collection request (ICR) titled, “Coal Mine Operator Response to Schedule for the Submission of Additional Evidence and Operator Response to Notice of Claim.” This comment request is part of continuing Departmental efforts to reduce paperwork and respondent burden in accordance with the Paperwork Reduction Act of 1995 (PRA).

DATES: Consideration will be given to all written comments received by July 7, 2023.

ADDRESSES: A copy of this ICR with applicable supporting documentation; including a description of the likely respondents, proposed frequency of response, and estimated total burden may be obtained free by contacting Anjanette Suggs by telephone at 202-354-9660 or by email at suggs.anjanette@dol.gov.

Submit written comments about, or requests for a copy of, this ICR by mail or courier to the U.S. Department of Labor, Office of Workers' Compensation Program, Division of Coal Mine Workers' Compensation, Room S3323, 200 Constitution Avenue NW, Washington, DC 20210; by email: suggs.anjanette@dol.gov.

FOR FURTHER INFORMATION CONTACT: Contact Anjanette Suggs by telephone at 202-354-9660 or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

This ICR seeks to extend PRA authority for the Coal Mine Operator Response to Schedule for Submission of Additional Evidence (Form CM-2970) and Operator Response to Notice of Claim (Form CM-2970a) information collection. The OWCP, Division of Coal Mine Workers' Compensation (DCMWC) administers the Black Lung Benefits Act (30 U.S.C. 901 et seq.), which provides benefits to coal miners totally disabled due to pneumoconiosis and their surviving dependents. When the DCMWC makes a preliminary analysis of a claimant's eligibility for benefits, and if a coal mine operator has been identified as potentially liable for payment of those benefits, the responsible operator is notified of the preliminary analysis. Regulations codified at 20 CFR part 725 require that a coal mine operator be identified and notified of potential liability as early in the adjudication process as possible. Forms CM-2790 and CM-2970a are used for claims filed after January 19, 2001, and indicate that the coal mine operator will submit additional evidence or respond to the notice of claim. Black Lung Benefits Act section 426 authorizes this information collection. See 30 U.S.C. 936.

This information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Written comments will receive consideration, and summarized and included in the request for OMB approval of the final ICR. In order to help ensure appropriate consideration, comments should mention 1240-0033.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-OWCP-DCMWC.

Type of Review: Extension.

Title of Collection: Coal Mine Operator Response to Schedule for the Submission of Additional Evidence and Operator Response to Notice of Claim.

Form: CM-2970 and CM-2970a.

OMB Control Number: 1240-0033.

Affected Public: Private Sector—businesses or other for-profits.

Estimated Number of Respondents: 8,082.

Frequency: As needed.

Total Estimated Annual Responses: 8,082.

Estimated Average Time per Response: 10 minutes-CM-2970 and 15 minutes-CM-2970a.

Estimated Total Annual Burden Hours: 1,790 hours.

Total Estimated Annual Other Cost Burden: $2,230.

Authority: 44 U.S.C. 3506(c)(2)(A).

Dated: May 2, 2023.
Anjanette Suggs,
Agency Clearance Officer.

[FR Doc. 2023-09666 Filed 5-5-23; 8:45 am]

BILLING CODE 4510-CK-P